DEPARTMENT OF TRANSPORTATION

National Highway Traffic Safety Administration

[U.S. DOT Docket Number NHTSA-2003-14375]

Reports, Forms, and Recordkeeping Requirements

AGENCY: National Highway Traffic Safety Administration (NHTSA), Department of Transportation (DOT).

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed information collections, including extensions and reinstatements of previously approved collections. This document describes one collection of information for which NHTSA intends to seek OMB approval.

DATES: Comments must be received on or before June 24, 2003.

ADDRESSES: Comments must refer to the docket notice numbers cited at the beginning of this notice and be submitted to Docket Management, Room PL-401, 400 Seventh Street, SW., Washington, DC 20590. Please identify the proposed collection of information for which a comment is provided, by referencing its OMB clearance number. It is requested, but not required that two (2) copies of the comment be provided. The Docket Section is open on weekdays from 10 a.m. to 5 p.m.

FOR FURTHER INFORMATION CONTACT: Marvin M. Levy, Ph.D., NHTSA 400 Seventh Street, SW., Room 5119, NTI-131 Washington, DC 20590. Dr. Levy's telephone number is (202) 366-5597.

SUPPLEMENTARY INFORMATION: Under the Paperwork Reduction Act of 1995, before a Federal agency submits a proposed collection of information to OMB for approval, it must first publish a document in the Federal Register providing for a 60-day comment period and otherwise consult members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methods and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In response to these requirements, NHTSA asks for public comment on the following proposed collection of information:

Title: Characteristics of Motorcycle Operators.

OMB Clearance Number: None.

Affected Public: Under this proposed collection, personal interviews will be administered to motorcycle operators from the general public. The survey will be administered by face-to-face interviews conducted at sponsored events, races, and recognized motorcyclist gathering sites throughout the United States. In addition, survey data also will be collected at smaller and more localized events such as motorcycle club meetings and popular riding locations. States currently being considered for inclusion are California, Maryland, Michigan, New York, Texas, Virginia, and Florida.

Form Number: This collection of information uses no standard forms.

Abstract: The National Highway Traffic Safety Administration (NHTSA) has a central role in the national effort to reduce motor vehicle-related traffic injuries and deaths. U.S. motorcycle-related deaths dropped consistently from 1980 to 1997, but over the past few years this downward trend reversed and injuries and deaths are increasing. The number of fatalities among motorcycle operators rose from 2,116 in 1997 to 3,181 in 2001. Data from NHTSA's National Center for Statistics and Analysis indicate that this increase is associated with older riders, use of larger motorcycles, and frequent use of alcohol, especially among older riders.

NHTSA is committed to developing effective programs that can reduce the incidence of these crashes. Recently, NHTSA jointly sponsored an effort to assess future needs regarding motorcycle safety. Recommendations from the National Agenda for Motorcycle Safety (National Agenda) indicated that additional research is needed to determine rider characteristics and factors leading to motorcycle crashes. This study supports the National Agenda and future efforts to reduce motorcycle injuries and deaths by providing updated information about rider operator characteristics, attitudes, and behaviors. Of particular interest will be comparisons of the training, experience, attitudes, and behaviors of those operators who have been involved in crashes versus those who have not.

Preliminary work was conducted to explore the possibility of obtaining a random sample of motorcycle operators using computer-assisted telephone interviewing technology. Unfortunately, only two percent of the U.S. population aged 16 and older ride a motorcycle; thus, standard, nationally based, telephone survey techniques would not be cost effective. Further, contacts with specific States indicated that it is not feasible to obtain a representative sample of motorcycle owners and operators given the limitations of data available from motor-vehicle departments. Therefore, an in-person survey using a convenience sample selected from various venues across broad geographic areas was chosen as the most practical approach.

The survey will be administered using face-to-face interview. Motorcycle operators, both licensed and non-licensed will be included, with a special emphasis on riders over 40 years of age. Participation by respondents will be strictly voluntary. The basic interview will vary from 8-10 minutes; whereas for crash involved operators, an additional 5 minutes of questions will be administered. The average interview should last approximately 12 minutes. The requested expiration date of approval is June 30, 2005.

Trained interviews will use specially developed survey forms with multiple-choice responses where possible to reduce survey administration time and to minimize data collection errors. To further reduce survey administration time and to minimize data collection errors, the trained interviewers will be current motorcyclists where possible. A Spanish-language questionnaire and bi-lingual interviewer will be used to reduce language barriers to participation. Confidentiality will be assured by conformance to procedures described in CIPSEA 2002.

The findings from this proposed survey will assist NHTSA in addressing the problem of motorcycle operator safety. NHTSA will use the findings to help focus current programs and activities to achieve the greatest benefit, to develop new programs, to decrease the likelihood of such crashes, and to provide informational support to states, localities, law enforcement agencies, and motorcyclists that will aid them in their efforts to reduce motorcyclist crashes, injuries and fatalities.

Estimate of the Total Annual Burden Resulting From the Collection of Information

NHTSA estimates that respondents in the sample would require an average of 12 minutes to complete the personal interview. Thus, estimated reporting burden on the general public would be a total of 400 hours per year for 2 years. The respondents would not incur any reporting or recordkeeping cost from the information collection.

Number of Respondents: It is anticipated that the number of respondents will be 4,000 motorcycle operators during the course of this study.

Comments are invited on: whether the proposed collection of information is necessary for the proper performance of the functions of NHTSA, including whether the information will have practical utility; the accuracy of NHTSA's estimate of the burden of the proposed information collection; ways to enhance the quality, utility and clarity of the information to be collected; and ways to minimize the burden of the collection of information on respondents, including the use of automated collection techniques or other forms of information technology.

Marilena Amoni,
Associate Administrator for Program Development and Delivery National Highway Traffic Safety Administration.

[FR Doc. 03-10249 Filed 4-24-03; 8:45 am]

BILLING CODE 4910-59-M